DEPARTMENT OF ENERGY

Federal Energy Regulatory Commission

Combined Notice of Filings #1

November 29, 2013.

Take notice that the Commission received the following exempt wholesale generator filings:

Docket Numbers: EG14-14-000.

Applicants: New AERG, LLC.

Description: Notice of Self-Certification of Exempt Wholesale Generator Status.

Filed Date: 11/29/13.

Accession Number: 20131129-5025.

Comments Due: 5 p.m. ET 12/20/13.

Take notice that the Commission received the following electric rate filings:

Docket Numbers: ER13-255-001.

Applicants: NV Energy, Inc.

Description: Transmission Rate Case—NPC Settlement to be effective 1/1/2013.

Filed Date: 11/27/13.

Accession Number: 20131127-5174.

Comments Due: 5 p.m. ET 12/18/13.

Docket Numbers: ER14-489-000.

Applicants: Northern States Power Company, a Minnesota Corporation.

Description: 2013-11-27-SMMPA Byron TR9 Repl Meter—565-0.0.0 to be effective 11/28/2013.

Filed Date: 11/27/13.

Accession Number: 20131127-5146.

Comments Due: 5 p.m. ET 12/18/13.

Docket Numbers: ER14-490-000.

Applicants: Hatchet Ridge Wind, LLC.

Description: Hatchet Ridge Category 2 to be effective 11/28/2013.

Filed Date: 11/27/13.

Accession Number: 20131127-5160.

Comments Due: 5 p.m. ET 12/18/13.

Docket Numbers: ER14-491-000.

Applicants: Spring Valley Wind LLC.

Description: Spring Valley Category 2 to be effective 11/28/2013.

Filed Date: 11/27/13.

Accession Number: 20131127-5164.

Comments Due: 5 p.m. ET 12/18/13.

Docket Numbers: ER14-492-000.

Applicants: Ocotillo Express LLC.

Description: Ocotillo MBR Revisions to be effective 11/28/2013.

Filed Date: 11/27/13.

Accession Number: 20131127-5167.

Comments Due: 5 p.m. ET 12/18/13.

Docket Numbers: ER14-493-000.

Applicants: SU FERC, L.L.C.

Description: Cancellation to be effective 1/1/2014.

Filed Date: 11/27/13.

Accession Number: 20131127-5175.

Comments Due: 5 p.m. ET 12/18/13.

Docket Numbers: ER14-494-000.

Applicants: South Bay Energy Corp.

Description: South Bay Energy Corp. Market Based Rate Tariff to be effective 1/15/2014.

Filed Date: 11/27/13.

Accession Number: 20131127-5190.

Comments Due: 5 p.m. ET 12/18/13.

Docket Numbers: ER14-495-000.

Applicants: California Independent System Operator Corporation.

Description: OATT Order No. 764 Compliance Filing to be effective 4/1/2014.

Filed Date: 11/27/13.

Accession Number: 20131127-5193.

Comments Due: 5 p.m. ET 12/18/13.

Docket Numbers: ER14-496-000.

Applicants: NV Energy, Inc.

Description: OATT Order No. 784—Regulation and Frequency Response Service to be effective 12/27/2013.

Filed Date: 11/27/13.

Accession Number: 20131127-5212.

Comments Due: 5 p.m. ET 12/18/13.

Docket Numbers: ER14-497-000.

Applicants: New England Power Pool Participants Committee.

Description: December 2013 Membership Filing to be effective 11/1/2013.

Filed Date: 11/27/13.

Accession Number: 20131127-5224.

Comments Due: 5 p.m. ET 12/18/13.

Docket Numbers: ER14-498-000.

Applicants: Pacific Gas and Electric Company.

Description: Western WDT November 2013 Biannual Filing to be effective 2/1/2014.

Filed Date: 11/27/13.

Accession Number: 20131127-5232.

Comments Due: 5 p.m. ET 12/18/13.

Docket Numbers: ER14-499-000.

Applicants: Pacific Gas and Electric Company.

Description: Western IA November 2013 Biannual Filing to be effective 2/1/2014.

Filed Date: 11/27/13.

Accession Number: 20131127-5235.

Comments Due: 5 p.m. ET 12/18/13.

Docket Numbers: ER14-500-000.

Applicants: New York Independent System Operator, Inc.

Description: NYISO tariff revision re: ICAP Demand Curve Reset to be effective 1/28/2014.

Filed Date: 11/29/13.

Accession Number: 20131129-5000.

Comments Due: 5 p.m. ET 12/20/13.

Docket Numbers: ER14-501-000.

Applicants: Pacific Gas and Electric Company.

Description: Notice of Termination for Pristine Sun Fund 10 Fresno PGE, LLC, Service Agreement No. 191, Tariff Volume No. 4 of Pacific Gas and Electric Company.

Filed Date: 11/27/13.

Accession Number: 20131127-5242.

Comments Due: 5 p.m. ET 12/18/13.

Docket Numbers: ER14-502-000.

Applicants: Pacific Gas and Electric Company.

Description: Notice of Termination for Yuba City Solar Millennium Fund, Service Agreement Nos. 212 and 213, Tariff Volume No. 4 of Pacific Gas and Electric Company.

Filed Date: 11/27/13.

Accession Number: 20131127-5243.

Comments Due: 5 p.m. ET 12/18/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2013-30111 Filed 12-18-13; 8:45 am]

BILLING CODE 6717-01-P